DEPARTMENT OF COMMERCE

National Telecommunications and Information Administration

Proposed Information Collection; Comment Request; NG911 Annual Performance Report

AGENCY: National Telecommunications and Information Administration (NTIA), Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 5, 2020.

ADDRESSES: Direct all written comments to Yuki Miyamoto, Federal Program Officer, National Telecommunications and Information Administration, U.S. Department of Commerce, 1401 Constitution Avenue NW, Room 4078, Washington, DC 20230 (or via the internet at PRAcomments@doc.gov). You may submit attachments to electronic comments in Microsoft Word, Excel, and Adobe PDF file formats. All comments submitted in response to this notice are a part of the public record and will be made available to the public, which may include posting them on the Regulations.gov website. Comments will generally be posted without change. Please do not include information of a confidential nature, such as sensitive personal information or proprietary information. All Personally Identifiable Information (for example, name and address) voluntarily submitted may be publicly accessible. If you send an email comment, your email address will be automatically captured and included as part of the comment that is placed in the public docket. Please note that comments that include a message stating the confidentiality of the communication will be treated as public comments and will be made available to the public.

FOR FURTHER INFORMATION CONTACT: Requests for additional information or copies of the information collection instruments and instructions should be directed to Yuki Miyamoto, Federal Program Officer, National Telecommunications and Information Administration, U.S. Department of Commerce, 1401 Constitution Avenue NW, Room 4078, Washington, DC 20230; via email at ymiyamoto@ntia.gov; or via telephone at (202) 482-5571.

SUPPLEMENTARY INFORMATION:

I. Abstract

In 2012, the Next Generation 911 (NG911) Advancement Act of 2012 (Middle Class Tax Relief and Job Creation Act of 2012, Pub. L. 112-96, Title VI, Subtitle E (codified at 47 U.S.C. 942)) enacted changes to this program. It reauthorized the National 911 Implementation Coordination Office (ICO), a joint effort between NTIA and the National Highway Traffic Safety Administration (NHTSA). It delineated the responsibilities of the ICO to include a joint program to establish and facilitate coordination and communication between federal, state, and local emergency communications systems, emergency personnel, public safety organizations, telecommunications carriers, and telecommunications equipment manufacturers and vendors involved in the implementation of 911 services.

The NG911 Advancement Act provided funding for grants to be used for the implementation and operation of 911 services, E911 services, migration to an IP-enabled emergency network, and adoption and operation of NG911 services and applications; the implementation of IP-enabled emergency services and applications enabled by NG911 services, including the establishment of IP backbone networks and the application layer software infrastructure needed to interconnect the multitude of emergency response organizations; and training public safety personnel, including call-takers, first responders, and other individuals and organizations who are part of the emergency response chain in 911 services. In August of 2019, NTIA and NHTSA made $109,250,000 in grant awards to 36 agencies.

The information collected for the remaining period of performance for this grant program will include various reporting requirements. All grantees will submit performance and financial reports in accordance with 2 CFR part 200, the Uniform Administrative Requirements, Cost Principles, and Audit Requirements for Federal Awards (OMB Uniform Guidance). It is important for the agencies to have this information so that they can effectively administer the grant program and account for the expenditure of funds.

II. Method of Collection

Under this proposed effort, all grantees are required to submit required documentation electronically via email.

III. Data

OMB Control Number: 0660-0041.

Form Number: None.

Type of Review: Revision and extension of a currently approved collection.

Affected Public: Reporting entities are the 36 grantees, making the total maximum number of respondents 36.

Estimated Number of Respondents: 36.

Estimated Time per Response: 60 hours.

Estimated Total Annual Burden Hours: 2,160 hours.

Estimated Total Annual Cost to Public: $99,878.40.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection. All public comments will become a matter of public record.

Sheleen Dumas,
Department PRA Clearance Officer, Office of the Chief Information Officer, Commerce Department.

[FR Doc. 2020-04602 Filed 3-5-20; 8:45 am]

BILLING CODE 3510-60-P